DEPARTMENT OF AGRICULTURE

Agricultural Marketing Service

[Doc. No. AMS-FTPP-19-0046]

Mandatory Country of Origin Labeling of Covered Commodities: Notice of Request for Renewal of a Currently Approved Information Collection

AGENCY: Agricultural Marketing Service, USDA.

ACTION: Notice and request for comments.

SUMMARY: In accordance with the Paperwork Reduction Act of 1995, this notice announces the Agricultural Marketing Service's (AMS) intention to request approval, from the Office of Management and Budget, for a renewal and revision to the currently approved information collection of the Mandatory Country of Origin Labeling (COOL) of Covered Commodities.

DATES: Comments must be received by June 28, 2019.

ADDRESSES: Comments should be submitted electronically at htttp://www.regulations.gov. Comments may also be submitted to Erin Healy, Director, Food Disclosure and Labeling Division, Fair Trade Practices Program, Agricultural Marketing Service, U.S. Department of Agriculture (USDA), STOP 0216, 1400 Independence Avenue SW, Room 2614-S, Washington, DC 20250-0216; or email to cool@ams.usda.gov. All comments should reference docket number AMS-FTPP-19-0046 and note the date and page number of this issue of the Federal Register.

Submitted comments will be available for public inspection at http://www.regulations.gov or at the above address during regular business hours. Comments submitted in response to this Notice will be included in the records and will be made available to the public. Please be advised that the identity of the individuals or entities submitting the comments will be made public on the internet at the above address.

FOR FURTHER INFORMATION CONTACT: Erin Healy, Director, Food Disclosure and Labeling Division, AMS, USDA, by telephone at (202) 720-4486, or email at cool@ams.usda.gov.

SUPPLEMENTARY INFORMATION: Title: Mandatory Country of Origin Labeling of Covered Commodities.

OMB Number: 0581-0250.

Expiration Date of Approval: June 30, 2019.

Type of Request: Request for Renewal and Revision of a Currently Approved Information Collection.

Abstract: The Farm Security and Rural Investment Act of 2002 (2002 Farm Bill) (Pub. L. 107-171), the 2002 Supplemental Appropriations Act (2002 Appropriations) (Pub. L. 107-206), and the Food, Conservation and Energy Act of 2008 (2008 Farm Bill) (Pub. L. 110-234) amended the Agricultural Marketing Act of 1946 (Act) (7 U.S.C. 1621 et seq.) to require retailers to notify their customers of the country of origin of covered commodities. Covered commodities included muscle cuts of beef (including veal), lamb, chicken, goat, and pork; ground beef, ground lamb, ground chicken, ground goat, and ground pork; wild and farm-raised fish and shellfish; perishable agricultural commodities; macadamia nuts; pecans; ginseng; and peanuts. AMS published a final rule for all covered commodities on January 15, 2009 (74 FR 2658), which took effect on March 16, 2009. On May 23, 2013, AMS issued a final rule to amend the country of origin labeling provisions for muscle cuts (78 FR 31367). The Consolidated Appropriations Act, 2016 (Pub. L. 114-113) amended the Act to remove mandatory COOL requirements for muscle cut and ground beef and pork commodities. On March 2, 2016, AMS issued a final rule to conform with amendments to the Act contained in the Consolidated Appropriations Act, 2016. Enforcement activities have been conducted since 2006 utilizing cooperative agreements established with State agencies.

Individuals who supply covered commodities, whether directly to retailers or indirectly through other participants in the marketing chain, are required to establish and maintain country of origin and, if applicable (i.e., for fish and shellfish covered commodities, only), method of production information for the covered commodities and supply this information to retailers. As a result producers, handlers, manufacturers, wholesalers, importers and retailers of covered commodities are affected.

This public recordkeeping burden is necessary to ensure conveyance and accuracy of country of origin and method of production declarations relied upon at the point of sale at retail. The public recordkeeping burden also assures that all parties involved in supplying covered commodities to retail stores maintain and convey accurate information as required.

Estimate of Burden: Public reporting burden for recordkeeping storage and maintenance is estimated to average 50.46 hours per year per respondent.

Recordkeepers: Retailers, wholesalers, producers, handlers, and importers.

Estimated Number of Recordkeepers: 415,517.

Estimated Total Annual Responses: 415,517.

Estimated Number of Responses per Recordkeeper: 1.

Estimated Total Annual Burden on Respondents: 20,966,789.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: April 24, 2019.
Bruce Summers,
Administrator, Agricultural Marketing Service.

[FR Doc. 2019-08579 Filed 4-26-19; 8:45 am]

BILLING CODE 3410-02-P